DEPARTMENT OF STATE

[Public Notice: 5367]

Secretary of State's Advisory Committee of Private International Law: Study Group on International Child Support

Subject: There will be a public meeting of the Study Group on International Child Support of the Secretary's of State's Advisory Committee on Private International Law on Thursday, April 20, 2006, to consider the draft Convention on the International recovery of Child Support and other Forms of Family Maintenance. The draft is available at http://www.hcch.net (click Works in Progress, Maintenance, Preliminary Document 16). The meeting will be held at the Holiday Inn Tyson's Corner Hotel, 1960 Chain Bridge Road, McLean, Virginia, 22102, from 8 a.m. until 5 p.m. The purpose is to assist the United States in preparing for the next negotiating session which will take place at the Hague Conference on Private International Law in June 2006.

The Study Group meeting is open to the public up to the capacity of the meeting room. Persons wishing to attend and have their views considered are encouraged to submit in writing comments in advance of the meeting. Comments should be sent electronically to carlsonmh@state.gov. Anyone planning to attend this meeting should provide their name, affiliation and contact information in advance to Mary Helen Carlson at 202-776-8420 or by e-mail to carlsonmh@state.gov

Dated: March 31, 2006.
Mary Helen Carlson,
Office of the Legal Adviser for Private International Law, Department of State.

[FR Doc. 06-3357 Filed 4-5-06; 8:45 am]

BILLING CODE 4710-08-P